DEPARTMENT OF HOMELAND SECURITY

Coast Guard

33 CFR Part 110

[Docket No. USCG-2013-0841]

RIN 1625-AA01

Anchorage Regulations: Anchorage Grounds, Los Angeles and Long Beach Harbors, California

AGENCY: Coast Guard, DHS.

ACTION: Final rule.

SUMMARY: The Coast Guard is disestablishing Commercial Anchorage “A” and is revising the permission and notification requirements in the regulations for the anchorage grounds of Los Angeles and Long Beach Harbors, California. Commercial Anchorage “A” has become the location of a Submerged Material Storage Site and is no longer usable. Revised permission and notification requirements affect the six commercial anchorages within the breakwater of the Ports of Los Angeles and Long Beach that can accommodate vessels with lengths exceeding 800 feet overall and drafts greater than 40 feet. This revision requires vessels using these deep draft anchorages for more than 48 hours to obtain extended anchorage permission from the Captain of the Port (COTP) Los Angeles-Long Beach. This action will assist the COTP and the Pilots for the Ports of Los Angeles and Long Beach to reduce congestion in the deep draft anchorage grounds within the harbor breakwater.

DATES: This rule is effective January 2, 2015.

ADDRESSES: Documents mentioned in this preamble are part of docket USCG-2013-0841. To view documents mentioned in this preamble as being available in the docket, go to http://www.regulations.gov, type the docket number in the “SEARCH” box and click “SEARCH.” Click on the Open Docket Folder on the line associated with this rulemaking. You may also visit the Docket Management Facility in Room w12-140 on the ground floor of the Department of Transportation, West Building, 1200 New Jersey Avenue SE., Washington, DC 20590, between 9 a.m. and 5 p.m., Monday through Friday, except federal holidays.

FOR FURTHER INFORMATION CONTACT: If you have questions on this rule, call or email Lieutenant Junior Grade Zachary Bonheim, Waterways Management Division, U.S. Coast Guard District 11, telephone (510) 437-3801, email zachary.w.bonheim@uscg.mil. If you have questions on viewing or submitting material to the docket, call Cheryl Collins, Program Manager, Docket Operations, telephone (202) 366-9826.

SUPPLEMENTARY INFORMATION:

Table of Acronyms

COTP Captain of the Port

DHS Department of Homeland Security

FR Federal Register

NPRM Notice of Proposed Rulemaking

A. Regulatory History and Information

On February 25, 2014, we published a Notice of Proposed Rulemaking (NPRM) entitled, “Anchorage Regulations: Anchorage Grounds, Los Angeles and Long Beach Harbors, California,” in the Federal Register (79 FR 10438). We received one comment on the NRPM. There was no request for a public meeting. A public meeting was not held.

B. Basis and Purpose

The legal basis for this rule is: 33 U.S.C. 471, 1221 through 1236, 2030, 2035, 2071; 33 CFR 1.05-1; and Department of Homeland Security Delegation No. 0170.1, which collectively authorize the Coast Guard to define anchorage grounds.

Section 110.214(b)(1) of 33 CFR establishes Commercial Anchorage “A” within Los Angeles Harbor. Commercial Anchorage “A” is a circular area with a radius of 400 yards, centered in position 33°43′19.2″ N, 118°14′18.5″ W. Since its establishment, Commercial Anchorage “A” has become a Submerged Material Storage Site. It is now encircled by a submerged dike and is no longer usable.

Section 110.214(a)(2) allows vessels to remain anchored for up to 10 consecutive days inside of the Los Angeles and Long Beach harbors before obtaining extended anchorage permission from the COTP. It does not offer any special consideration for the six sub-anchorages that can accommodate vessels with lengths exceeding 800 feet overall and drafts greater than 40 feet.

For the purpose of this rule, designated geographic areas within a commercial anchorage will be known as sub-anchorages. The U.S. Coast Guard is authorized to determine anchorage grounds, and this rule aims to regulate specific vessels that may use areas within these grounds. Sub-anchorages are geographic areas established by the U.S. Coast Guard and displayed on NOAA oceanographic charts, labeled first with the letter of the commercial anchorage, followed by a number. For example; A-1, B-2, etc.

Due to the increasing size of commercial vessels and the growth in shipping traffic, the anchorage grounds inside the breakwater of the Los Angeles and Long Beach harbors are becoming increasingly crowded. Vessels with lengths exceeding 800 feet overall and drafts greater than 40 feet are often compelled to wait outside of the breakwater while other vessels are moved out of deep draft anchorages to accommodate them.

Pilots for the Ports of Los Angeles and Long Beach have recommended that the Coast Guard consider reducing the number of days a vessel may remain anchored in the six deep draft anchorages of Los Angeles and Long Beach harbors, without approval of the COTP. This will aid them in reducing congestion in the deep draft anchorages more effectively.

This rule was recommended by Pilots for the Ports of Los Angeles and Long Beach and has three purposes. The first purpose is to disestablish Commercial Anchorage “A”, as it is no longer usable. The second purpose is to identify commercial sub-anchorages B-7, B-9, B-11, D-5, D-6 and D-7 as anchorages that can accommodate vessels with lengths exceeding 800 feet overall and drafts greater than 40 feet within the Ports of Los Angeles and Long Beach. These anchorages are defined by the U.S. Coast Guard, and their coordinates and dimensions are defined below:

Anchorage | Latitude | Longitude | Radius (yards)
B-7 | 33-43′ 52.0″ N | 118-12′ 47.9″ W | 450
B-9 | 33-43′ 28.5″ N | 118-13′ 10.5″ W | 500
B-11 | 33-43′ 44.5″ N | 118-12′ 17″ W | 450
D-5 | 33-43′ 40.5′ N | 118-10′ 30″ W | 450
D-6 | 33-43′ 40.5′ N | 118-9′ 57.5″ W | 450
D-7 | 33-43′ 40.5′ N | 118-9′ 25″ W | 450

The final purpose of this rule is to revise the permission and notification requirements for the six sub-anchorages above by requiring vessels in these anchorages for more than 48 consecutive hours to obtain permission to remain from the COTP. This will reduce congestion in the deep draft anchorages within the breakwater of both ports, and reduce the need for deep draft vessels to wait outside the breakwater as other vessels are moved to accommodate them.

C. Discussion of Comments, Changes, and the Final Rule

We received one comment on this rule. A request was made to extend the time limit for vessels anchoring within the commercial sub-anchorages B-7, B-9, B-11, D-5, D-6, and D-7, from 48 to 72 hours. After further consideration, we have decided to finalize this proposal without the changes suggested. The process for obtaining COTP permission for a longer anchoring period is not difficult, and the 48 hour window for anchoring will reduce congestion and allow for better management of the deep draft anchorages within the area. When faced with congestion of the port, Los Angeles and Long Beach Harbor pilots are forced to coordinate the movement of multiple deep draft vessels that can only safely navigate and anchor in specific sub-anchorages, as noted above. With the 48 hour restriction in place, vessel traffic and congestion within the small navigable area of the breakwater will be dispersed, ensuring the continuation of commerce and decrease the risk of navigation incidents within this highly trafficked port.

Based on data from the pilots association, the majority of vessels calling upon the Port of Los Angeles/Long Beach do not require more than 48 hours to complete operations. Bunkering vessels are routinely and consistently available between 6 and 24 hours after arrival. The request for a stay of 72 hours is in excess of the average time needed by vessels, and will decrease the efficiency of the pilots, port operations, and limit the number of vessels able to use the specific deep draft anchorages. This extended stay will increase the numbers of vessels waiting in queue of the deep draft anchorages, leading to higher risk of collision, potential damage to property, and additional incidents outside the breakwater. If repairs or additional bunkering time is needed, permission can be granted for vessels to remain past the 48 hour limit on a case by case basis.

The Coast Guard will disestablish Commercial Anchorage “A” in the regulations for the anchorage grounds of Los Angeles and Long Beach Harbors, California in 33 CFR 110.214(b)(1). Commercial Anchorage “A” is a circular area with a radius of 400 yards, centered in position 33°43′19.2″ N, 118°14′18.5″ W, approximately 600 yards to the east of Pier 400. Since its establishment, Commercial Anchorage “A” has become a Submerged Material Storage Site. It is now encircled by a submerged dike and can no longer be used as an anchorage.

The Coast Guard is revising the permission and notification requirements in the regulations for the anchorage grounds of Los Angeles and Long Beach Harbors, California in 33 CFR 110.214(a)(2). Under this rule, no vessel may anchor in deep draft anchorages B-7, B-9, B-11, D-5, D-6 or D-7 within Los Angeles or Long Beach harbors for more than 48 consecutive hours unless extended anchorage permission is obtained from the COTP. These sub-anchorages are the only locations within the breakwater of Los Angeles and Long Beach harbors where vessels with lengths exceeding 800 feet overall and drafts greater than 40 feet can anchor.

The purpose of the 48 hour time requirement is to reduce vessel congestion in deep draft anchorages B-7, B-9, B-11, D-5, D-6 and D-7. Vessels within these sub-anchorages are required to justify remaining there beyond 48 hours to the COTP, or be prepared to move based on the needs of other vessels and the judgment of the Pilots for the Ports of Los Angeles and Long Beach. Limiting congestion in these anchorages will reduce the need for deep draft vessels to wait outside of the breakwater while other vessels are moved from the inside deep draft anchorages. As shipping volume and the size of vessels making calls to the Ports of Los Angeles and Long Beach continue to grow, maintaining anchorage space for deep draft vessels within the shelter of the breakwater is becoming increasingly important.

This rule maintains the requirement for all vessels that anchor anywhere else within Los Angeles or Long Beach harbors to obtain extended anchorage permission from the COTP if they wish to remain anchored for more than 10 consecutive days. In determining whether extended anchorage permission will be granted (for vessels in any anchorage), consideration will be given, but not necessarily limited to: The current and anticipated demands for anchorage space within the harbor, the requested duration, the condition of the vessel, and the reason for the request.

D. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect minimal additional cost impacts to the maritime industry, because this rule does not impose fees or more specialized requirements to utilize these anchorage grounds. The effect of this rule is not significant, as it removes an obsolete anchorage ground that is no longer used and revises the permission and notification requirements for six of the deep draft anchorage grounds in Los Angeles and Long Beach Harbors, California. The revised permission and notification requirements do not restrict vessels from utilizing these deep draft anchorages. They simply require vessels in these anchorages to obtain permission from the COTP to remain longer than 48 hours. While we recognize that this rule shortens the amount of time that a vessel may remain in the deep draft anchorages B-7, B-9, B-11, D-5, D-6 and D-7 from 10 days to 48 hours before being required to obtain extended anchorage permission from the COTP and may also increase the number of times that a vessel operator may be required to obtain extended anchorage permission, we anticipate this 48-hour notice requirement will not have a significant impact on vessel owners or operators. We further anticipate the 48 hour requirement will provide the pilots and COTP with more accurate and more up-to-date information on vessel movements and will help reduce the need to move vessels out of deep draft anchorages on short notice. This will also assist in minimizing the number of deep draft vessels waiting outside of the breakwater while other vessels are moved from these anchorages to accommodate them. The COTP and pilots for Los Angeles and Long Beach retain their authority to move any vessel inside the breakwater when necessary.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received 0 comments from the Small Business Administration on this rule. The Coast Guard certifies under 5 U.S.C. 605(b) that this rule will not have a significant economic impact on a substantial number of small entities.

This rule would affect the following entities, some of which might be small entities: The owners or operators of commercial vessels intending to anchor in the affected areas.

The impact to these entities is not expected to be significant because the only anticipated impact on vessel owners or operators will be the requirement to obtain extended anchorage permission from the COTP if they wish to remain in the deep draft anchorages for more than 48 hours. We expect this 48 hour notice requirement will help toward reducing the need to move vessels out of these deep draft anchorages by providing better awareness of vessel schedules and movements to pilots and the COTP. This rule will reduce congestion, enhance the effectiveness of anchorage management, and increase the availability of deep draft anchorages. It does not hamper the ability of commercial vessels to anchor inside of the Los Angeles and Long Beach harbor breakwater. Disestablishing Commercial Anchorage “A” has no affect on these entities because the anchorage area is no longer usable and has not been for some time.

3. Assistance for Small Entities

Under section 213(a) of the Small Business Regulatory Enforcement Fairness Act of 1996 (Public Law 104-121), we want to assist small entities in understanding this rule. If the rule will affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the For Further Information Contact section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

8. Taking of Private Property

This rule would not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule involves disestablishing one unusable anchorage ground and revising the permission and notification requirements for six deep draft anchorage grounds at Los Angeles and Long Beach Harbors, California. The revised requirements will assist the COTP and the pilot stations for the Ports of Los Angeles and Long Beach in managing anchorages inside the harbor breakwater. This rule is categorically excluded from further review under paragraph 34(f) of Figure 2-1 of the Commandant Instruction. An environmental analysis checklist supporting this determination and a Categorical Exclusion Determination are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2071; 33 CFR 1.05-1; Department of Homeland Security Delegation No. 0170.1.

2. In § 110.214, revise paragraph (a)(2)(i) and remove and reserve paragraph (b)(1) to read as follows:

§ 110.214 Los Angeles and Long Beach Harbors, California.

(a) * * *

(2) * * *

(i)(A) No vessel may anchor in deep draft sub-anchorages B-7, B-9, B-11, D-5, D-6 or D-7 within Los Angeles or Long Beach harbors for more than 48 consecutive hours unless extended anchorage permission is obtained from the Captain of the Port. These sub-anchorages are defined by the following coordinates and dimensions:

Anchorage | Latitude | Longitude | Radius (yards)
B-7 | 33-43′ 52.0″ N | 118-12′ 47.9″ W | 450
B-9 | 33-43′ 28.5″ N | 118-13′ 10.5″ W | 500
B-11 | 33-43′ 44.5″ N | 118-12′ 17″ W | 450
D-5 | 33-43′ 40.5′ N | 118-10′ 30″ W | 450
D-6 | 33-43′ 40.5′ N | 118-9′ 57.5″ W | 450
D-7 | 33-43′ 40.5′ N | 118-9′ 25″ W | 450

(B) No vessel may anchor anywhere else within Los Angeles or Long Beach harbors for more than 10 consecutive days unless extended anchorage permission is obtained from the Captain of the Port. In determining whether extended anchorage permission will be granted, consideration will be given, but not necessarily limited to: The current and anticipated demands for anchorage space within the harbor, the requested duration, the condition of the vessel, and the reason for the request.

* * * * *

Dated: November 14, 2014.
J.A. Servidio,
Rear Admiral, U.S. Coast Guard, Commander, Eleventh Coast Guard District.

[FR Doc. 2014-28449 Filed 12-2-14; 8:45 am]

BILLING CODE 9110-04-P